DEPARTMENT OF COMMERCE

Foreign-Trade Zones Board

[B-18-2026]

Foreign-Trade Zone (FTZ) 22, Notification of Proposed Production Activity; AFC Specialty Coatings Group, LLC; (Polymer or Silicone Coated Fabrics); Lake in the Hills, Illinois

The Illinois International Port District, grantee of FTZ 22, submitted a notification of proposed production activity to the FTZ Board (the Board) on behalf of AFC Specialty Coatings Group, LLC (AFC) for AFC's facility in Lake in the Hills, Illinois within FTZ 22. The notification conforming to the requirements of the Board's regulations (15 CFR 400.22) was received on February 10, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: Full-Width PTFE Coated Fiberglass/Aramid Fabric; Pressure Sensitive Tapes Made of PTFE Coated Fiberglass/Aramid Fabrics; Slit-Width PTFE Coated Fiberglass/Aramid Fabrics; Slit Width Pressure Sensitive Tapes Made of PTFE Coated Fiberglass/Aramid Fabrics; Cut Sheets Made of PTFE Coated Fiberglass Fabrics; Fabricated Parts Made of PTFE Coated Fiberglass/Aramid Fabrics; Full-Width Silicone Coated Fiberglass/Aramid Fabric; Slit-Width Silicone Coated Fiberglass/Aramid Fabric; Conveyor Belting Made of Silicone Coated Fiberglass/Kevlar Fabrics; Molded Composite Trays Made of PTFE, Polyphenylene Sulfide (PPS), Polyether sulfone (PESU), Polyamide-imide Coated (PAI) Fiberglass/Aramid Fabrics or Combination of Such Fabrics and Coatings; Conveyor Belting Made of PTFE Coated Fiberglass/Aramid Fabrics; Fabricated Parts Made of PTFE Coated Fiberglass/Aramid Fabrics; Conveyor Belting Made of PTFE Coated Aramid (Kevlar) Fabrics with Specialized Fabrication, such as breathable fabric seams made of custom Aramid (Kevlar) or similar construction (non-metallic) or non-standard (custom designed) belt guiding mechanisms; Full-Width Neoprene Coated Reinforced Fabrics; and Slit-Width Neoprene Coated Reinforced Fabrics (duty rate ranges from 3.3% to 5.8%).

The proposed foreign-status materials/components include: Silicone Rubber; Neoprene Rubber; Silicone Pressure Sensitive Adhesives; Acrylic Pressure Sensitive Adhesives; Rubber Pressure Sensitive Adhesives; Benzoyl Peroxide Crosslinking Agents; Reaction Initiator—Platinum; Silane-Based Coating Primers; Zirconate/Titanate-Based Coating Primers; PTFE Aqueous Dispersion; PFA (Perfluoroether Polymer) Dispersion; FEP (Fluorinated Ethylene Propylene) Dispersion; Fused Silica; Colloidal Silica; Silicon Carbide Powder; Carbon Black Powders; Mica Pigments; Iron-Oxide Pigments; Nonionic Surfactants; Acrylic Alkali-Soluble Emulsion (ASE); Rheology Modifier; Release Liner for Pressure Sensitive Tapes—Plastic; Release Liner for Pressure Sensitive Tapes—Paper; Polyethylene Plastic Film; Polyester Plastic Film; Woven Kevlar Fabric; Woven Nylon Fabric; Woven E-Glass Fiberglass Fabric—Closed Weave; Woven E-Glass Fiberglass Fabric—Mesh; Woven E-Glass Fiberglass Fabric; Woven Polyester Fabric; PTFE Synthetic Filaments for Sewing; Kevlar (Aramid) Synthetic Filaments for Sewing; DOTs (Metal Snap Fasteners); Conveyor Belt Lacing out of Steel; Conveyor Belt Clips Out of Steel; Conveyor Belt Grommets Out of Steel; Polyphenelyne Sulfide Resin (PPS); Polyphenylsulfone Resin (PPSU); Polyamideimide Resin (PAI); and Polyethersulfone Resin (PESU/PES) (duty rate ranges from duty-free to 14.90%).

The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41). The request also indicates that PTFE Aqueous Dispersion is subject to an antidumping/countervailing duty (AD/CVD) order/investigation if imported from certain countries. The Board's regulations (15 CFR 400.13(c)(2)) require that merchandise subject to AD/CVD orders, or items which would be otherwise subject to suspension of liquidation under AD/CVD procedures if they entered U.S. customs territory, be admitted to the zone in privileged foreign status (19 CFR 146.41).

Public comment is invited from interested parties. Submissions shall be addressed to the Board's Executive Secretary and sent to: ftz@trade.gov. The closing period for their receipt is March 30, 2026.

A copy of the notification will be available for public inspection in the “Online FTZ Information System” section of the Board's website.

For further information, contact John Frye at John.Frye@trade.gov.

Dated: February 11, 2026.
Elizabeth Whiteman,
Executive Secretary.

[FR Doc. 2026-03001 Filed 2-13-26; 8:45 am]

BILLING CODE 3510-DS-P